DEPARTMENT OF LABOR

Employment and Training Administration

[TA-W-71,621]

Sealy Mattress Company, Clarion, PA; Notice of Termination of Investigation

Pursuant to Section 223 of the Trade Act of 1974, as amended, an investigation was initiated on July 9, 2009 in response to a worker petition filed on behalf of workers of Sealy Mattress Company, Clarion, Pennsylvania.

The petitioning group of workers is covered by an earlier petition (TA-W-71,415) filed on June 26, 2009 that is the subject of an ongoing investigation for which a determination has not yet been issued. Consequently, further investigation in this case would serve no purpose, and the investigation under this petition has been terminated.

Signed at Washington, DC, this 14th day of July 2009.
Richard Church,
Certifying Officer, Division of Trade Adjustment Assistance.

[FR Doc. E9-18039 Filed 7-28-09; 8:45 am]

BILLING CODE 4510-FN-P